DEPARTMENT OF DEFENSE

Department of the Air Force

U.S. Air Force Academy Board Of Visitors Meeting

AGENCY: Department of the Air Force, Air University Headquarters, DOD.

ACTION: Notice of meeting.

SUMMARY: Pursuant to Section 9355, Title 10, United States Code, the U.S. Air Force Academy Board of Visitors will meet at the Pentagon on November 15, 2006, and at the House Armed Services Committee Conference Room in the Rayburn Building in Washington, DC on November 16, 2006. The purpose of the meeting is to consider the morale and discipline, curriculum, instruction, physical equipment, fiscal affairs, academic methods, and other matters relating to the Academy.

A portion of the meeting will be open to the public while the other will be closed to the public to discuss matters listed in Paragraphs (2) and (6) of Subsection (c) of Section 552b, Title 5, United States Code. The determination to close one session is based on the consideration that portions of the briefings and discussion will relate to information of a personal nature that, if disclosed, would constitute a clearly unwarranted invasion of personal privacy. The balance of the closed session will address the internal policies and administrative practices of the Board of Visitors of the Academy. Meeting sessions will be held in the House Armed Services Committee Conference Room in the Rayburn Building in Washington, DC. A delay in publishing this notification within fifteen, calendar days resulted from the need to ensure proper administrative coordination and approval to close a portion of the meeting.

FOR FURTHER INFORMATION CONTACT: Or to attend the 15 & 16 November Board of Visitors meeting, contact Captain Brad Head, Chief, USAFA Programs Assessment, Directorate of Airman Development, Deputy Chief of Staff, Manpower & Personnel, AF/A1DOA, 1040 Air Force Pentagon, Washington, DC, 20330-1040, (703) 697-8650. Contact Ms. Beverly Houtz, Academic Affairs Office, Air Force Institute of Technology, (937) 255-6565 ext 4424.

Bao-Anh Trinh,
Air Force Federal Register Liaison Officer.

[FR Doc. E6-18738 Filed 11-6-06; 8:45 am]

BILLING CODE 5001-05-P